DEPARTMENT OF STATE

[Public Notice 5829]

Announcement of Meetings of the International Telecommunication Advisory Committee

SUMMARY: This notice announces meetings of the International Telecommunication Advisory Committee (ITAC) to prepare advice on U.S. positions for a meeting of the Advisory and Study Groups of the International Telecommunication Union—Development Sector (ITU-D), to prepare advice on U.S. positions for a meeting of the Radio Assembly of the International Telecommunication Union—Radiocommunication Sector (ITU-R), and to prepare advice on U.S. positions for a meeting of the Advisory Group of the International Telecommunication Union—Telecommunication Standardization Sector (ITU-T).

The ITAC will meet as the ITAC-D to prepare for the ITU-D September 2007 Advisory and Study Group meeting on July 19 and 26, and August 2 and 9, 2007, in the Washington, DC metro area. All meetings are from 2 p.m.-4 p.m. EDT.

The ITAC will meet as the ITAC-R to prepare for the next ITU-R Radio Assembly weekly on Thursdays from July 26 through October 11, 2007 from 10 a.m.-noon, in the Washington, DC metro area.

The ITAC will meet as the ITAC-T to prepare for the ITU-T December 2007 Advisory Group meeting, in particular addressing restructuring the ITU-T Study Group structure, from 2 p.m.-4 p.m. EDT on July 18, 2007, in the Washington, DC metro area.

The actual locations and other meeting particulars will be announced on the ITAC-D and ITAC-T reflectors or may be obtained from the secretariat, (minardje@state.gov). The meetings are open to the public.

June 21, 2007.
Doreen McGirr,
Foreign Affairs Officer, EEB/CIP/MA, Department of State.

[FR Doc. 07-3216 Filed 6-29-07; 8:45 am]

BILLING CODE 4710-07-M